DEPARTMENT OF THE INTERIOR

National Park Service

Notice of Inventory Completion: Colorado Historical Society, Denver, CO

AGENCY: National Park Service, Interior.

ACTION: Notice.

Notice is here given in accordance with the Native American Graves Protection and Repatriation Act (NAGPRA), 25 U.S.C. 3003, of the completion of an inventory of human remains in the control of the Colorado Historical Society, Denver, CO. The human remains were removed from Jefferson and Larimer Counties, CO.

This notice is published as part of the National Park Service's administrative responsibilities under NAGPRA, 25 U.S.C. 3003 (d)(3). The determinations in this notice are the sole responsibility of the museum, institution, or Federal agency that has control of the Native American human remains. The National Park Service is not responsible for the determinations in this notice.

In 2006 and 2009, a detailed assessment of the human remains was made by Colorado Historical Society professional staff in consultation with representatives of the Arapahoe Tribe of the Wind River Reservation, Wyoming; Cheyenne and Arapaho Tribes, Oklahoma (formerly Cheyenne and Arapaho Tribes of Oklahoma); Comanche Nation, Oklahoma; Crow Tribe of Montana; Hopi Tribe of Arizona; Jicarilla Apache Nation, New Mexico; Kiowa Indian Tribe of Oklahoma; Mescalero Apache Tribe of the Mescalero Reservation, New Mexico; Navajo Nation, Arizona, New Mexico & Utah; Northern Cheyenne Tribe of the Northern Cheyenne Indian Reservation, Montana; Oglala Sioux Tribe of the Pine Ridge Reservation, South Dakota; Ohkay Owingeh, New Mexico (formerly the Pueblo of San Juan); Paiute Indian Tribe of Utah (Cedar City Band of Paiute, Kanosh Band of Paiutes, Koosharem Band of Paiutes, Indian Peaks Band of Paiutes, and Shivwits Band of Paiutes); Pawnee Nation of Oklahoma; Pueblo of Acoma, New Mexico; Pueblo of Cochiti, New Mexico; Pueblo of Isleta, New Mexico; Pueblo of Jemez, New Mexico; Pueblo of Nambe, New Mexico; Pueblo of Picuris, New Mexico; Pueblo of Pojoaque, New Mexico; Pueblo of San Ildefonso, New Mexico; Pueblo of Sandia, New Mexico; Pueblo of Santa Ana, New Mexico; Pueblo of Santa Clara, New Mexico; Pueblo of Tesuque, New Mexico; Pueblo of Zia, New Mexico; Rosebud Sioux Tribe of the Rosebud Indian Reservation, South Dakota; Shoshone-Bannock Tribes of the Fort Hall Reservation of Idaho; Shoshone Tribe of the Wind River Reservation, Wyoming; Southern Ute Indian Tribe of the Southern Ute Indian Reservation, Colorado; Standing Rock Sioux Tribe of North & South Dakota; Three Affiliated Tribes of the Fort Berthold Reservation, North Dakota; Ute Indian Tribe of the Uintah & Ouray Reservation, Utah; Ute Mountain Tribe of the Ute Mountain Reservation, Colorado, New Mexico & Utah; and Zuni Tribe of the Zuni Reservation, New Mexico.

In August 1996, human remains representing a minimum of 19 individuals were seized from a storage locker by the Lakewood Police Department in Jefferson County, CO (Office of Archaeology and Historic Preservation (OAHP) Case Number 125). In November 2001, the human remains were transferred to the Colorado Historical Society. No known individuals were identified. No associated funerary objects are present.

The antiquity, age, sex and origin of the individuals are unknown.

In November 2001, human remains representing a minimum of six individuals were removed from an unknown location (OAHP Case Number 198). The human remains were inadvertently discovered by a homeowner in a box in the home's crawl space and taken to the Jefferson County Coroner's Office. The human remains were reportedly collected by the previous owner from “a mine” sometime between 1958 to 1965. In November 2001, the human remains were transferred to the Colorado Historical Society. No known individuals were identified. No associated funerary objects are present.

The human remains represent four adults and two subadults, sex unknown. The estimated antiquity of the human remains is unknown.

At an unknown date, but prior to 2002, human remains representing a minimum of 11 individuals were removed from Colorado State University in Larimer County, CO (OAHP Case Number 200). The exact origin or origins of these individuals are not known. The human remains were claimed as private property by the widow of Dr. Michael Charney, a former professor at the University who died in 1998. The human remains were subsequently taken into custody by the Larimer County Sheriff's Office. Following litigation, in 2006, the human remains, which were initially identified as Native American, were transferred to the Colorado Historical Society by court order to be repatriated in accordance with Colorado State burial law and NAGPRA. No known individuals were identified. No associated funerary objects are present.

The human remains represent four adult males, four adult females, one sub-adult female and two adults whose sex is indeterminate. The estimated antiquity of the human remains is unknown.

In June 2008, human remains representing a minimum of one individual were discovered by a private citizen in Jefferson County, CO (OAHP Case Number 260) during the execution of her deceased father's estate. The exact origin of the individual is unknown. In June 2008, the human remains were transferred to the Colorado Historical Society. No known individual was identified. No associated funerary objects are present.

The antiquity, age, and sex of the individual are unknown.

Insufficient geographical, kinship, biological, archeological, linguistic, folkore, oral tradition, historical evidence or other information or expert opinion exists to reasonably establish cultural affiliation of the individuals described above with any present-day Indian tribe, although physical anthropological evidence supports Native American identity.

Officials of the Colorado Historical Society have determined that, pursuant to 25 U.S.C. 3001 (9-10), the human remains described above represent the physical remains of 37 individuals of Native American ancestry. Officials of the Colorado Historical Society also have determined that, pursuant to 25 U.S.C. 3001 (2), a relationship of shared group identity cannot be reasonably traced between the Native American human remains and any present-day Indian tribe.

Colorado Historical Society has determined that the human remains are “culturally unidentifiable” under NAGPRA, 43 C.F.R. 10.9 (e)(6). Federal regulations currently preclude disposition of culturally unidentifiable human remains absent an overriding legal requirement or a recommendation from the Secretary of the Interior, 43 C.F.R 10.9 (e)(6). In 2006, the Colorado Historical Society, in partnership with the Colorado Commission of Indian Affairs, Southern Ute Indian Tribe of the Southern Ute Reservation, Colorado, and Ute Mountain Tribe of the Ute Mountain Reservation, Colorado, New Mexico & Utah conducted tribal consultations among the tribes with ancestral ties to the State of Colorado to develop the process for disposition of culturally unidentifiable Native American human remains and associated funerary objects originating from inadvertent discoveries on Colorado State and private lands As a result of the consultation, a process was developed, Process for Consultation, Transfer, and Reburial of Culturally Unidentifiable Native American Human Remains and Associated Funerary Objects Originating From Inadvertent Discoveries on Colorado State and Private Lands, (2008), (unpublished, on file with the Colorado Office of Archaeology and Historic Preservation). The origins of the Native American human remains described above are unknown, however, they were received through police seizures or private citizens on Colorado State and private lands in Jefferson and Larimer Counties, CO. Jefferson and Larimer Counties are located in the Great Plains Consultation Region, as established by the Process.

The Native American Graves Protection and Repatriation Review Committee (Review Committee) is responsible for recommending specific actions for disposition of culturally unidentifiable human remains. On November 3-4, 2006, the Process was presented to the Review Committee for consideration. A January 8, 2007, letter on behalf of the Review Committee from the Designated Federal Officer transmitted the provisional authorization to proceed with the Process upon receipt of formal responses from the Jicarilla Apache Nation, New Mexico and Kiowa Indian Tribe of Oklahoma, subject to forthcoming conditions imposed by the Secretary of the Interior. On May 15-16, 2008, the responses from the Jicarilla Apache Nation, New Mexico and Kiowa Indian Tribe of Oklahoma were submitted to the Review Committee. On September 23, 2008, the Assistant Secretary for Fish and Wildlife and Parks, as the designee for the Secretary of the Interior, transmitted the authorization for the disposition of culturally unidentifiable human remains according to the Process and NAGPRA, pending publication of a Notice of Inventory Completion in the Federal Register. This notice fulfills that requirement.

Representatives of any other Indian tribe that believes itself to be culturally affiliated with the human remains should contact Sheila Goff, NAGPRA Liaison, Colorado Historical Society, 1300 Broadway, Denver, CO 80203, telephone (303) 866-4531, before June 8, 2009. Disposition of the human remains to the Southern Ute Indian Tribe of the Southern Ute Reservation, Colorado, and the Ute Mountain Tribe of the Ute Mountain Reservation, Colorado, New Mexico & Utah may proceed after that date if no additional claimants come forward.

The Colorado Historical Society is responsible for notifying the Apache Tribe of Oklahoma; Arapahoe Tribe of the Wind River Reservation of Wyoming; Cheyenne and Arapaho Tribes, Oklahoma; Cheyenne River Sioux Tribe of the Cheyenne River Reservation, South Dakota; Comanche Nation, Oklahoma; Crow Creek Sioux Tribe of the Crow Creek Reservation, South Dakota; Crow Tribe of Montana; Fort Sill Apache Tribe of Oklahoma; Hopi Tribe of Arizona; Jicarilla Apache Nation, New Mexico; Kiowa Indian Tribe of Oklahoma; Mescalero Apache Tribe of the Mescalero Reservation, New Mexico; Navajo Nation, Arizona, New Mexico & Utah; Northern Cheyenne Tribe of the Northern Cheyenne Indian Reservation, Montana; Oglala Sioux Tribe of the Pine Ridge Reservation, South Dakota; Ohkay Owingeh, New Mexico; Paiute Indian Tribe of Utah; Pawnee Nation of Oklahoma; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Rosebud Sioux Tribe of the Rosebud Indian Reservation, South Dakota; San Juan Southern Paiute Tribe of Arizona; Shoshone-Bannock Tribes of the Fort Hall Reservation of Idaho; Shoshone Tribe of the Wind River Reservation, Wyoming; Southern Ute Indian Tribe of the Southern Ute Indian Reservation, Colorado; Standing Rock Sioux Tribe of North & South Dakota; Three Affiliated Tribes of the Fort Berthold Reservation, North Dakota; Ute Indian Tribe of the Uintah & Ouray Reservation, Utah; Ute Mountain Tribe of the Ute Mountain Reservation, Colorado, New Mexico & Utah; Wichita and Affiliated Tribes (Wichita, Keechi, Waco & Tawakoni), Oklahoma; Ysleta del Sur Pueblo of Texas; and Zuni Tribe of the Zuni Reservation, New Mexico that this notice has been published.

Dated: April 13, 2009.
Sherry Hutt,
Manager, National NAGPRA Program.

[FR Doc. E9-10534 Filed 5-6-09; 8:45 am]

BILLING CODE 4312-50-S